DEPARTMENT OF DEFENSE

Office of the Secretary

Preventive Health Allowance Demonstration Project

AGENCY: Office of the Secretary of Defense (Health Affairs)/TRICARE Management Activity, Department of Defense.

ACTION: Notice of a Preventive Health Allowance Demonstration Project.

SUMMARY: This notice is to advise interested parties of a Military Health System (MHS) demonstration project entitled “Preventive Health Allowance Demonstration Project for TRICARE Active Duty Personnel and their Family Members”. This demonstration project is designed to evaluate the efficacy of providing a preventive health services allowance to encourage healthy behaviors on the part of eligible MHS beneficiaries.

DATES: Effective Date: This demonstration is effective from December 1, 2009, until December 31, 2011.

FOR FURTHER INFORMATION CONTACT: Dr. Barry Cohen, Director, Healthcare Operations-TRICARE Management Activity, 5111 Leesburg Pike, Suite 810, Falls Church, VA 22041-3206; telephone (703) 681-4029.

SUPPLEMENTARY INFORMATION:

A. Background

Studies have been performed in health organizations to assess the effectiveness of waiving co-pays for clinical preventive services, as well as financial incentives for healthy behavioral change. No studies to date have assessed the effects of providing financial incentives for increasing compliance with recommended and, in some instances, mandated clinical preventive services in an Active Duty military population. This demonstration project will be the first such effort among Active Duty military personnel and their family members. The results of this demonstration will have a direct impact on the future utility of this type of intervention.

B. National Defense Authorization Act (NDAA) for Fiscal Year 2009 (FY09) Preventive Health Allowance Directive

Section 714 of the NDAA for FY09 authorizes the Department to conduct a demonstration project designed to evaluate the efficacy of providing an annual allowance to members of the armed forces to increase the use of preventive health services by such members and their dependents. To meet eligibility standards to receive this benefit, the member of the armed forces must be serving on active duty for a period of more than 30 days and meet the medical and dental readiness requirements for their branch of service.

Not more than 1,500 members of each of the Army, Navy, Air Force, and Marine Corps may receive a preventive health services allowance during any year, of which half in each Service shall be members without dependents and half shall be members with dependents. The Secretary of the military department concerned shall pay a preventive health services allowance to a member selected to receive the allowance in an amount equal to $500 per year in the case of a member without dependents, and $1,000 per year in the case of a member with dependents.

C. Description of Demonstration Project

The Preventive Health Allowance demonstration project will be conducted to evaluate whether a preventive health services allowance will increase the utilization of clinical preventive services among Active Duty personnel and their family members. Clinical Preventive Services, with respect to age and gender-specific recommendations included in this study, are screening for colorectal cancer, breast cancer, cervical cancer, and prostate cancer; an annual physical exam; an annual dental exam; weight and body mass screening; and immunizations.

The TRICARE Management Activity (TMA) will establish the methodology, implement the demonstration, and obtain the necessary data to evaluate the outcome effectively. There will be 1,500 Active Duty members enrolled from each Service, with 750 being single Active Duty members, and 750 having family members. The Secretary of the military department concerned shall pay the preventive health allowance at the rate of $500 or $1,000 per year for single Active Duty members or for Active Duty with family members respectively for those in compliance with the appropriate clinical preventive services recommendations. The selected participants will be provided information regarding the nature of the study, their obligations during the study, the incentive that can be achieved with compliance and a toll-free telephone number for enrollment and/or questions.

D. Evaluation

An independent evaluation of the demonstration will be conducted. The evaluation will be designed to determine whether the provision of a preventive health allowance increased the utilization rate of clinical preventive services among TRICARE Active Duty personnel and their family members.

Dated: November 19, 2009.
Patricia L. Toppings,
OSD Federal Register Liaison Officer, Department of Defense.

[FR Doc. E9-28355 Filed 11-25-09; 8:45 am]

BILLING CODE 5001-06-P